DEPARTMENT OF TRANSPORTATION

Office of the Secretary

Privacy Act of 1974: System of Records

AGENCY: Office of the Secretary, Department of Transportation (DOT)

ACTION: Notice to modify a system of records.

SUMMARY: DOT proposes to modify an existing system of records under the Privacy Act of 1974.

EFFECTIVE DATE: This notice will be effective, without further notice, on November 21, 2005, unless modified by a subsequent notice to incorporate comments received by the public. Comments must be received by November 10, 2005 to be assured consideration.

ADDRESSES: Send comments to Steven Lott, Departmental Privacy Officer, United States Department of Transportation, Office of the Secretary, 400 7th Street, SW., Room 6106, Washington DC 20590 or Steven.Lott@dot.gov.

FOR FURTHER INFORMATION CONTACT: Craig H. Middlebrook, Saint Lawrence Seaway Development Corporation, 400 Seventh Street, SW., Washington, DC 20590, 202-366-0105 (voice), 202-366-7147 (fax), craig.middlebrook@sls.dot.gov (e-mail).

SUPPLEMENTARY INFORMATION: The Chief Counsel operates a Federal Tort Claims Act handling system to evaluate claims. This system of records which is used primarily to determine allowability of claims, contains personal information about individuals. The following information may be contained in the system: name, address, age and marital status of claimants and details of claims, documented evidence relevant to the claims provided by claimants, and relevant, internal Corporation investigation documents.

System number:

DOT/SLS 151.

System name:

Claimants Under Federal Tort Claims Act.

Security classification:

Sensitive, unclassified.

System location:

This system of record is in the Office of the Chief Counsel for the Saint Lawrence Seaway Development Corporation, 400 7th Street, SW., Room 5424, Washington, DC 20590.

Categories of individuals covered by the system of records:

This system contains information on all individuals presenting claims for damages to personal property, or personal injuries, or death resulting in connection with Corporation activities, other than claims by Federal Government employees under Federal Employees' Compensation Act (5 U.S.C. 8102).

Categories of records in the system:

The information in the system consists of claims documents on which are recorded name, address, age and marital status of claimants and details of claims, documented evidence relevant to the claims provided by claimants, and relevant, internal Corporation investigation documents.

Authority for maintenance of the system:

5 U.S.C. 301, 28 U.S.C. 2675 and 33 U.S.C. 5984(a)(4).

Purposes:

Information will be used in evaluating claims, categories of users and the purposes of such uses.

Routine uses of records maintained in the system, including categories of users and the purposes of such uses:

Used by Chief Counsel and other Federal government officials to determine allowability of claims.

Disclosure to consumer reporting agencies:

None.

Policies and practices for storing, retrieving, accessing, retaining, and disposing of records in the system:

Storage:

Documents are stored as paper records in file folders stored in file cabinets.

Retrievability:

Records are retrievable by claimant's name.

Safeguards:

Records are kept in locked file cabinets and are accessible only to the Chief Counsel and persons authorized by him.

Retention and disposal:

Records are stored for an indefinite period of time.

System manager and address:

Chief Counsel, Saint Lawrence Seaway Development Corporation, 400 Seventh Street, SW., Room 5424, Washington, DC 20590.

Notification procedure:

Same as “System Manager.”

Record access procedures:

Same as “System Manager.”

Contesting record procedures:

Contest of these records will be directed to the Director, Office of Finance and Administration, Saint Lawrence Seaway Development Corporation, P.O. Box 520, Massena, NY 13662-0520.

Record source categories:

Information is obtained directly from claimants on Standard Form 95 and supporting documentation provided by claimants and relevant, internal Corporation investigation documents.

Exemptions claimed for the system:

None.

Dated: Septembe 28, 2005.
Steven Lott,
Departmental Privacy Officer.

[FR Doc. 05-20333 Filed 10-7-05; 8:45 am]

BILLING CODE 4910-62-P 1